DEPARTMENT OF TRANSPORTATION

Surface Transportation Board

[STB Finance Docket No. 33961]

City of Yelm, WA—Acquisition Exemption—Line of The Burlington Northern and Santa Fe Railway Company

The City of Yelm, Washington (the City), a municipality of the State of Washington, a noncarrier, has filed a notice of exemption under 49 CFR 1150.31 to acquire approximately 4.57 miles of rail line known as the Prairie Line ¹ from The Burlington Northern and Santa Fe Railway Company (BNSF) between milepost 20.99 near Roy, WA, and milepost 25.56 near Yelm, WA, in Pierce and Thurston Counties, WA. The City certifies that its projected revenues as a result of this transaction will not exceed those that would qualify it as a Class III rail carrier.

¹ The City states that it is its intent to have the above line operated by a yet-to-be-determined third party rail operator. The City further states that the line will be temporarily embargoed pending line maintenance and selection of an operator in the near future.

The transaction is expected to be consummated on or shortly after November 16, 2000.²

² The City reported that it intended to consummate the transaction on or before November 16, 2000 (emphasis added). The earliest the transaction can be consummated is November 16, 2000, the effective date of the exemption (7 days after the exemption was filed). The City's representative has been notified and has confirmed that consummation would not take place before November 16, 2000.

If the notice contains false or misleading information, the exemption is void ab initio. Petitions to revoke the exemption under 49 U.S.C. 10502(d) may be filed at any time. The filing of a petition to revoke will not automatically stay the transaction.

An original and 10 copies of all pleadings, referring to STB Finance Docket No. 33961, must be filed with the Surface Transportation Board, Office of the Secretary, Case Control Unit, 1925 K Street, NW., Washington, DC 20423-0001. In addition, a copy of each pleading must be served on Stephen L. Day, 1215—4th Avenue, Suite 800, Seattle, WA 98161-1090.

Board decisions and notices are available on our website at http://WWW.STB.DOT.GOV.

Decided: November 15, 2000.
By the Board, David M. Konschnik, Director, Office of Proceedings.
Vernon A. Williams,
Secretary.

[FR Doc. 00-29731 Filed 11-21-00; 8:45 am]

BILLING CODE 4915-00-P